DEPARTMENT OF THE INTERIOR

National Park Service

[NPS-PWR-PWRO-18268; PPPWLAKES1/PPMPSAS1Z.YP0000]

Record of Decision for Wilderness Management Plan, Lake Mead National Recreation Area, Nevada and Arizona

AGENCY: National Park Service, Interior.

ACTION: Notice of availability.

SUMMARY: The National Park Service has prepared and approved a Record of Decision for the Final Environmental Impact Statement (EIS) for the Wilderness Management Plan for Lake Mead National Recreation Area. Approval of the Wilderness Management Plan concludes an extensive conservation planning and environmental impact analysis effort that began during 2006. The requisite no-action “wait period” was initiated on February 27, 2015, with the Environmental Protection Agency's Federal Register announcement of the filing of the Final EIS.

ADDRESSES: Those wishing to review the Record of Decision may obtain a copy by request to the Superintendent, Lake Mead National Recreation Area, 601 Nevada Way, Boulder City, Nevada 89005 or via telephone request at (702) 293-8978.

FOR FURTHER INFORMATION CONTACT: Jim Holland, Senior Outdoor Recreation Planner, (702) 293-8986.

SUPPLEMENTARY INFORMATION: The National Park Service (NPS), in collaboration with the Bureau of Land Management (BLM), prepared the Wilderness Management Plan (WMP), which will guide management actions in eight wilderness areas located in Nevada, as follows: The Black Canyon, Bridge Canyon, Jimbilnan, Nellis Wash, and Pinto Valley areas (managed by NPS), and the Eldorado, Ireteba Peaks, and Spirit Mountain areas (jointly managed by NPS and BLM). These areas were designated wilderness in 2002 through the Clark County Conservation of Public Land and Natural Resources Act (Pub. L. 107-282).

The EIS process was jointly conducted pursuant to § 102(2)(C) of the National Environmental Policy Act of 1969 (Pub. L. 91-190, as amended) and the regulations promulgated by the Council on Environmental Quality (40 CFR 1505.2). The BLM has prepared a separate Record of Decision for those portions of the three wilderness areas that it manages.

Three alternatives, all including mitigation measures, were evaluated during the EIS/WMP process. The “agency preferred” Alternative B has been selected for implementation. The approved WMP will preserve the wilderness character, natural resources, and cultural resources in the eight designated wilderness areas within Lake Mead National Recreation Area, while also providing for the use and enjoyment of the wilderness areas. The WMP provides guidelines to NPS wilderness managers for maintaining desirable conditions in the wilderness areas, and is intended to provide for consistency and continuity for the undertaking of future NPS and BLM wilderness management activities and programs. The WMP does not entail any changes to the NPS or BLM wilderness boundaries set forth in the Clark County wilderness legislation. All primary components of the selected alternative will be implemented as NPS staffing and funding allow.

Dated: May 27, 2015.
Patricia L. Neubacher,
Acting Regional Director, Pacific West Region.

[FR Doc. 2015-18436 Filed 7-27-15; 8:45 am]

BILLING CODE 4312-FF-P